DEPARTMENT OF LABOR

Employment and Training Administration

Comment Request for Information Collection for Monitoring of Short Time Compensation (STC) Grants for Program Implementation or Improvement and Promotion and Enrollment in the Program, Extension With Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the continuation of the collection of data, with revisions, concerning the monitoring of grants for the STC program beyond the current expiration date of 1/31/2016. The burden estimates were revised to account for the number of states that were awarded an STC grant(s). Additionally, previous burden estimates related to the temporary financing of STC payments by the Federal Government, applying for an STC grant(s), and applying to operate a temporary Federal STC program (for states without STC programs in state law), were removed as such estimates are not applicable beyond the current expiration date.

DATES: Submit written comments to the office listed in the addresses section below on or before August 25, 2015.

ADDRESSES: Send written comments to Lidia Fiore, Office of Unemployment Insurance, Room S-4524, Employment and Training Administration, U.S. Department of Labor, 200 Constitution Avenue NW., Washington, DC 20210. Telephone number: 202-693-2716 (this is not a toll-free number). Individuals with hearing or speech impairments may access the telephone number above via TTY by calling the toll-free Federal Information Relay Service at 1-877-889-5627 (TTY/TDD). Email: fiore.lidia@dol.gov. To obtain a copy of the proposed information collection request (ICR), please contact the person listed above.

SUPPLEMENTARY INFORMATION:

I. Background

The enactment of Public Law 112-96 (The Middle Class Tax Relief and Job Creation Act of 2012, referred to hereafter as “MCTRJC” or “the act”) contains Subtitle D, Short-Time Compensation Program, also known as the “Layoff Prevention Act of 2012”. The sections of the law under this subtitle concern states that participate in a layoff aversion program known as short time compensation (STC) or work sharing. Section 2164 covers grants the Federal Government provided to states for the purpose of implementation or improved administration of an STC program, or for promotion and enrollment in the program. ETA has principal oversight responsibility for monitoring the STC grants awarded to state workforce agencies (SWA). As part of the monitoring process, SWAs submit a quarterly narrative progress report (QPR). The QPR serves as a monitoring instrument to track the SWA's progress toward completing STC grant activities. ETA also needs to allow for this reporting for proper oversight of state STC programs.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension with revision.

Title: Applications, Grants and Administration of STC Provisions.

OMB Number: 1205-0499.

Affected Public: State Workforce Agencies.

Estimated Total Annual Respondents: 17.

Annual Frequency: Quarterly.

Estimated Total Annual Responses: 68.

Average Time per Response: 1 hour.

Estimated Total Annual Burden Hours: 68.

Total Annual Burden Cost for Respondents: $0.

We will summarize and/or include in the request for OMB approval of the ICR, the comments received in response to this comment request; they will also become a matter of public record.

Signed:
Portia Wu,
Assistant Secretary for Employment and Training, Labor.

[FR Doc. 2015-15735 Filed 6-25-15; 8:45 am]

BILLING CODE 4510-FW-P